DEPARTMENT OF TRANSPORTATION

Surface Transportation Board

[Docket No. FD 35444]

New York New Jersey Rail, LLC-Acquisition and Operation Exemption-Line of Railroad in Hudson County, NJ

New York New Jersey Rail, LLC (NYNJ),¹ a Class III rail carrier, has filed a verified notice of exemption under 49 CFR 1150.41 to acquire and operate approximately 2.4 miles of rail line located in the Greenville section in Jersey City, Hudson County, NJ. According to NYNJ, the rail line has no milepost numbers.

¹ NYNJ is a wholly owned subsidiary of The Port Authority of New York and New Jersey.

NYNJ states that it will shortly enter into an Asset Purchase Agreement with Port Jersey Railroad Company (PJR) to acquire a significant portion of the operating assets of PJR to enable NYNJ to provide freight services to shippers within the Greenville section of Jersey City. NYNJ states that it currently interchanges with and will continue to interchange with Consolidated Rail Corporation (Conrail) at its junction with Conrail's Greenville “A” Yard track located in Jersey City.

NYNJ also states that the proposed transaction does not contain any language that would limit its ability to interchange traffic with other carriers. According to NYNJ, the line only connects with lines of Conrail.

NYNJ certifies that its projected annual revenues as a result of the transaction will not result in NYNJ becoming a Class II or Class I rail carrier and will not exceed $5 million annually.

NYNJ states that it expects the transaction to be consummated on or shortly after the effective date of this exemption. The earliest this transaction may be consummated is December 19, 2010, the effective date of the exemption (30 days after the exemption was filed).

If the verified notice contains false or misleading information, the exemption is void ab initio. Petitions to revoke the exemption under 49 U.S.C. 10502(d) may be filed at any time. The filing of a petition to revoke will not automatically stay the effectiveness of the exemption. Petitions for stay must be filed no later than December 10, 2010 (at least 7 days before the exemption becomes effective).

An original and 10 copies of all pleadings, referring to Docket No. FD 35444, must be filed with the Surface Transportation Board, 395 E Street, SW., Washington, DC 20423-0001. In addition, a copy of each pleading must be served on James H.M. Savage, John D. Heffner, PLLC, 1750 K Street, NW., Suite 200, Washington, DC 20006.

Board decisions and notices are available on our Web site at http://www.stb.dot.gov.

Decided: November 26, 2010.
By the Board, Joseph H. Dettmar, Acting Director, Office of Proceedings.
Andrea Pope-Matheson,
Clearance Clerk.

[FR Doc. 2010-30275 Filed 12-2-10; 8:45 am]

BILLING CODE 4915-01-P